DEPARTMENT OF LABOR

Employment and Training Administration

[TA-W-39,045]

Longview Aluminum LLC Longview, Washington; Notice of Revised Determination on Reconsideration

By letter of July 25, 2001, the Longview Federated Aluminum Council, requested administrative reconsideration regarding the Department's Negative Determination Regarding Eligibility to Apply for Worker Adjustment Assistance, applicable to the workers of the subject firm.

The initial investigation resulted in a negative determination issued on June 25, 2001, based on the finding that imports of aluminum did not contribute importantly to worker separations at the Longview plant. The primary internal customer of the products of the subject facility turned to imported aluminum only after the closure of the subject plant. The decision further indicated that the on-going West Coast energy crisis was a factor impacting the subject plant closing. The denial notice was published in the Federal Register on July 11, 2001 (66 FR 36329).

To support the request for reconsideration, the Longview Federated Aluminum Council provided additional information showing the affiliation between the primary customer and the subject plant, both of which were owned by Michigan Avenue Partners.

Michigan Avenue Partners acquired the subject plant and made a decision to close the facility down. The decision created a corresponding increase in the reliance on imported aluminum by the primary affiliated customer.

Conclusion

After careful review of the additional facts obtained on reconsideration, I conclude that increased imports of articles like or directly competitive with those produced at Longview Aluminum LLC, Longview, Washington, contributed importantly to the declines in sales or production and to the total or partial separation of workers at the subject firm. In accordance with the provisions of the Act, I make the following certification:

All workers of Longview Aluminum LLC, Longview, Washington, who became totally or partially separated from employment on or after March 30, 2000 through two years from the date of this certification, are eligible to apply for adjustment assistance under section 223 of the Trade Act of 1974.

Signed in Washington, DC this 17th day of October 2001.
Edward A. Tomchick,
Director, Division of Trade Adjustment Assistance.

[FR Doc. 01-27792 Filed 11-5-01; 8:45 am]

BILLING CODE 4510-30-M